DEPARTMENT OF TRANSPORTATION

Federal Aviation Administration

14 CFR Part 39

[Docket No. FAA-2025-0339; Project Identifier MCAI-2024-00450-T]

RIN 2120-AA64

Airworthiness Directives; BAE Systems (Operations) Limited Airplanes

AGENCY: Federal Aviation Administration (FAA), DOT.

ACTION: Notice of proposed rulemaking (NPRM).

SUMMARY: The FAA proposes to supersede Airworthiness Directive (AD) 2023-02-06, which applies to all BAE Systems (Operations) Limited Model 4101 airplanes. AD 2023-02-06 requires revising the existing maintenance or inspection program, as applicable, to incorporate new or more restrictive airworthiness limitations. Since the FAA issued AD 2023-02-06, the FAA has determined that new or more restrictive airworthiness limitations are necessary. This proposed AD would continue to require certain actions in AD 2023-02-06 and require revising the existing maintenance or inspection program, as applicable, to incorporate new or more restrictive airworthiness limitations. The FAA is proposing this AD to address the unsafe condition on these products.

DATES: The FAA must receive comments on this NPRM by May 9, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0339; or in person at Docket Operations between 9 a.m. and 5 p.m., Monday through Friday, except Federal holidays. The AD docket contains this NPRM, the mandatory continuing airworthiness information (MCAI), any comments received, and other information. The street address for Docket Operations is listed above.

Material Incorporated by Reference:

• For material identified in this proposed AD, contact BAE Systems (Operations) Limited, Customer Information Department, Prestwick International Airport, Ayrshire, KA9 2RW, Scotland, United Kingdom; telephone +44 1292 675207; fax +44 1292 675704; email RApublications@baesystems.com; website baesystems.com/en/our-company/our-businesses/regional-aircraft/about-us.

• You may view this material at the FAA, Airworthiness Products Section, Operational Safety Branch, 2200 South 216th St., Des Moines, WA. For information on the availability of this material at the FAA, call 206-231-3195.

FOR FURTHER INFORMATION CONTACT: Todd Thompson, Aviation Safety Engineer, FAA, 1600 Stewart Avenue, Suite 410, Westbury, NY 11590; telephone 206-231-3228; email todd.thompson@faa.gov.

SUPPLEMENTARY INFORMATION:

Comments Invited

The FAA invites you to send any written relevant data, views, or arguments about this proposal. Send your comments to an address listed under the ADDRESSES section. Include “Docket No. FAA-2025-0339; Project Identifier MCAI-2024-00450-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Todd Thompson, Aviation Safety Engineer, FAA, 1600 Stewart Avenue, Suite 410, Westbury, NY 11590; telephone 206-231-3228; email todd.thompson@faa.gov. Any commentary that the FAA receives that is not specifically designated as CBI will be placed in the public docket for this rulemaking.

Background

The FAA issued AD 2023-02-06, Amendment 39-22313 (88 FR 7851, February 7, 2023) (AD 2023-02-06), for all BAE Systems (Operations) Limited Model 4101 airplanes. AD 2023-02-06 was prompted by an MCAI originated by the Civil Aviation Authority (CAA), which is the aviation authority for the United Kingdom (UK) (UK CAA). The UK CAA issued AD G-2022-0006, dated March 30, 2022 (UK CAA AD G-2022-0006), to correct an unsafe condition.

AD 2023-02-06 requires revising the existing maintenance or inspection program, as applicable, to incorporate new or more restrictive airworthiness limitations. The FAA issued AD 2023-02-06 to address fatigue damage of various airplane structures and failure of certain structurally significant items, which could result in reduced structural integrity of the airplane. The FAA also issued AD 2023-02-06 to address fuel vapor ignition sources, which could result in a fuel tank explosion and consequent loss of the airplane.

Actions Since AD 2023-02-06 Was Issued

Since the FAA issued AD 2023-02-06, the UK CAA superseded AD G-2022-0006, and issued UK CAA AD G-2024-0003, dated August 6, 2024; corrected August 14, 2024 (UK CAA AD G-2024-0003) (also referred to as the MCAI), to correct an unsafe condition on all BAE Systems (Operations) Limited Model 4101 airplanes. The MCAI states new or more restrictive airworthiness limitations have been developed.

The FAA is proposing this AD to address the unsafe condition on these products.

You may examine the MCAI in the AD docket at regulations.gov under Docket No. FAA-2025-0339.

Material Incorporated by Reference Under 1 CFR Part 51

The FAA reviewed Subject 05-10-10, “Airworthiness Limitations,” of Chapter 05, “Airworthiness Limitations,” of BAE Systems (Operations) Limited J41 Aircraft Maintenance Manual (AMM), Revision 46, dated February 20, 2024. This service information specifies airworthiness limitations for life-limited parts and structurally significant items.

This proposed AD would also require Chapter 05, “Airworthiness Limitations,” of BAE Systems (Operations) Limited J41 Aircraft Maintenance Manual (AMM), Effectivity Group 403, Revision 44, dated June 15, 2021; and Chapter 05, “Airworthiness Limitations,” of BAE Systems (Operations) Limited J41 AMM, Effectivity Group 408, Revision 44, dated June 15, 2021; which the Director of the Federal Register approved for incorporation by reference as of March 14, 2023 (88 FR 7851, February 7, 2023). “Effectivity Group” is not specifically stated on these documents. However, “403” and “408,” which are stated on the pages of the applicable documents (except for the title pages), refer to the effective groups of airplanes specified within the fleet code listings.

This material is reasonably available because the interested parties have access to it through their normal course of business or by the means identified in the ADDRESSES section.

Other Related Material

The FAA also reviewed Subject 05-10-20, “Certification Maintenance Requirements,” of Chapter 05, “Airworthiness Limitations,” and Subject 05-10-30, “Critical Design Configuration Control Limitations (CDCCL)—Fuel System,” of Chapter 05, “Airworthiness Limitations,” of BAE Systems (Operations) Limited J41 Aircraft Maintenance Manual (AMM), Revision 45, dated December 15, 2023. This service information specifies airworthiness limitations for certification maintenance requirements and fuel tank systems, which are specified in appendices A and B of this proposed AD.

FAA's Determination

This product has been approved by the aviation authority of another country and is approved for operation in the United States. Pursuant to the FAA's bilateral agreement with this State of Design Authority, it has notified the FAA of the unsafe condition described in the MCAI and material referenced above. The FAA is issuing this NPRM after determining that the unsafe condition described previously is likely to exist or develop on other products of the same type design.

Proposed Requirements of This NPRM

This proposed AD would retain certain requirements of AD 2023-02-06. This proposed AD would also require revising the existing maintenance or inspection program, as applicable, to incorporate new or more restrictive airworthiness limitations.

This proposed AD would require revisions to certain operator maintenance documents to include new actions (e.g., inspections) and Critical Design Configuration Control Limitations (CDCCLs). Compliance with these actions and CDCCLs is required by 14 CFR 91.403(c). For airplanes that have been previously modified, altered, or repaired in the areas addressed by this proposed AD, the operator may not be able to accomplish the actions described in the revisions. In this situation, to comply with 14 CFR 91.403(c), the operator must request approval for an alternative method of compliance according to paragraph (k)(1) of this proposed AD.

Costs of Compliance

The FAA estimates that this AD, if adopted as proposed, would affect 4 airplanes of U.S. registry. The FAA estimates the following costs to comply with this proposed AD:

The FAA estimates the total cost per operator for the retained actions from AD 2023-02-06 to be $7,650 (90 work-hours × $85 per work-hour).

The FAA has determined that revising the maintenance or inspection program takes an average of 90 work-hours per operator, although the agency recognizes that this number may vary from operator to operator. Since operators incorporate maintenance or inspection program changes for their affected fleet(s), the FAA has determined that a per-operator estimate is more accurate than a per-airplane estimate. Therefore, the agency estimates the average total cost per operator to be $7,650 (90 work-hours × $85 per work-hour).

The FAA estimates the total cost per operator for the new proposed actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2023-02-06, Amendment 39-22313 (88 FR 7851, February 7, 2023); and

b. Adding the following new AD:

BAE Systems (Operations) Limited: Docket No. FAA-2025-0339; Project Identifier MCAI-2024-00450-T.

(a) Comments Due Date

The FAA must receive comments on this airworthiness directive (AD) by May 9, 2025.

(b) Affected ADs

This AD replaces AD 2023-02-06, Amendment 39-22313 (88 FR 7851, February 7, 2023) (AD 2023-02-06).

(c) Applicability

This AD applies to all BAE Systems (Operations) Limited Model 4101 airplanes, certificated in any category.

(d) Subject

Air Transport Association (ATA) of America Code 05, Time Limits/Maintenance Checks.

(e) Unsafe Condition

This AD was prompted by a determination that new or more restrictive airworthiness limitations are necessary. The FAA is issuing this AD to address fatigue damage of various airplane structures and failure of certain structurally significant items, which could result in reduced structural integrity of the airplane. The FAA is also issuing this AD to address fuel vapor ignition sources, which could result in a fuel tank explosion and consequent loss of the airplane.

(f) Compliance

Comply with this AD within the compliance times specified, unless already done.

(g) Retained Revision of the Existing Maintenance or Inspection Program, With a Terminating Action

This paragraph restates the requirements of paragraph (m) of AD 2023-02-06, with a new terminating action. Within 90 days after March 14, 2023 (the effective date of AD 2023-02-06): Revise the existing maintenance or inspection program, as applicable, by incorporating Subjects 05-10-10, “Airworthiness Limitations”; 05-10-20, “Certification Maintenance Requirements”; and 05-10-30, “Critical Design Configuration Control Limitations (CDCCL)—Fuel System”; of Chapter 05, “Airworthiness Limitations,” of the BAE Systems (Operations) Limited J41 Aircraft Maintenance Manual (AMM), Effectivity Group 403, Revision 44, dated June 15, 2021; or BAE Systems (Operations) Limited J41 AMM, Effectivity Group 408, Revision 44, dated June 15, 2021; as applicable. The initial compliance times for the tasks are at the applicable times specified in paragraphs (g)(1) through (3) of this AD. Accomplishing the revision of the existing maintenance or inspection program required by paragraph (i) of this AD terminates the requirements of this paragraph.

(1) For replacement tasks of life limited parts specified in Subject 05-10-10, “Airworthiness Limitations,” of Chapter 05, “Airworthiness Limitations,” of the BAE Systems (Operations) Limited J41 AMM, Effectivity Group 403, Revision 44, dated June 15, 2021; or BAE Systems (Operations) Limited J41 AMM, Effectivity Group 408, Revision 44, dated June 15, 2021; as applicable: Prior to the applicable flight cycles (landings) or flight hours (flying hours) on the part specified in the “Mandatory Life Limits” column in Subject 05-10-10, or within 90 days after March 14, 2023, whichever occurs later.

(2) For structurally significant item tasks specified in Subject 05-10-10, “Airworthiness Limitations,” of Chapter 05, “Airworthiness Limitations,” of the BAE Systems (Operations) Limited J41 AMM, Effectivity Group 403, Revision 44, dated June 15, 2021; or BAE Systems (Operations) Limited J41 AMM, Effectivity Group 408, Revision 44, dated June 15, 2021; as applicable: Prior to the accumulation of the applicable flight cycles specified in the “Initial Inspection” column in Subject 05-10-10, or within 90 days after March 14, 2023, whichever occurs later.

(3) For certification maintenance requirements tasks specified in Subject 05-10-20, “Certification Maintenance Requirements,” of Chapter 05, “Airworthiness Limitations,” of the BAE Systems (Operations) Limited J41 AMM, Effectivity Group 403, Revision 44, dated June 15, 2021; or BAE Systems (Operations) Limited J41 AMM, Effectivity Group 408, Revision 44, dated June 15, 2021; as applicable: Prior to the accumulation of the applicable flight hours specified in the “Time Between Checks” column in Subject 05-10-20, or within 90 days after March 14, 2023, whichever occurs later; except for tasks that specify “first flight of the day” in the “Time Between Checks” column in Subject 05-10-20, the initial compliance time is the first flight of the next day after accomplishing the revision required by paragraph (g) of this AD, or within 90 days after March 14, 2023, whichever occurs later.

(h) Retained No Alternative Actions, Intervals, or CDCCLs, With New Exception

This paragraph restates the requirements of paragraph (n) of AD 2023-02-06, with new exception. Except as required by paragraph (i) of this AD: After the existing maintenance or inspection program has been revised as required by paragraph (g) of this AD, no alternative actions (e.g., inspections), intervals, or CDCCLs may be used unless the actions, intervals, and CDCCLs are approved as an AMOC in accordance with the procedures specified in paragraph (k)(1) of this AD.

(i) New Revision of the Existing Maintenance or Inspection Program

Within 90 days after the effective date of this AD, revise the existing maintenance or inspection program, as applicable, as specified in paragraphs (i)(1) and (2) of this AD. Accomplishing the revision of the existing maintenance or inspection program required by this paragraph terminates the actions required by paragraph (g) of this AD.

(1) Revise the existing maintenance or inspection program, as applicable, to incorporate the information specified in Subject 05-10-10, “Airworthiness Limitations,” of Chapter 05, “Airworthiness Limitations,” of BAE Systems (Operations) Limited J41 AMM, Revision 46, dated February 20, 2024. The initial compliance time for doing the tasks is at the applicable times specified in paragraphs (i)(1)(i) and (ii) of this AD.

(i) For replacement tasks of life limited parts specified in Subject 05-10-10, “Airworthiness Limitations,” of Chapter 05, “Airworthiness Limitations,” of BAE Systems (Operations) Limited J41 AMM, Revision 46, dated February 20, 2024: Prior to the applicable flight cycles (landings) or flight hours (flying hours) on the part specified in the “Mandatory Life Limits” column in Subject 05-10-10, or within 90 days after the effective date of this AD, whichever occurs later.

(ii) For structurally significant item tasks specified in Subject 05-10-10, “Airworthiness Limitations,” of Chapter 05, “Airworthiness Limitations,” of BAE Systems (Operations) Limited J41 AMM, Revision 46, dated February 20, 2024: Prior to the accumulation of the applicable flight cycles (flights) or years specified in the “Initial Inspection” column in Subject 05-10-10, or within 90 days after the effective date of this AD, whichever occurs later.

(2) Revise the existing maintenance or inspection program, as applicable, to incorporate the information in appendix A to this AD—Subject 05-10-20, “Certification Maintenance Requirements,” and in appendix B to this AD—Subject 05-10-30, “Critical Design Configuration Control Limitations (CDCCL)—Fuel System.” The initial compliance time for doing the certification maintenance requirements tasks specified in Subject 05-10-20, “Certification Maintenance Requirements” (appendix A) is prior to the accumulation of the applicable flight hours specified in the “Time Between Checks” column in Subject 05-10-20, or within 90 days after the effective date of this AD, whichever occurs later; except for tasks that specify “first flight of the day” in the “Time Between Checks” column in Subject 05-10-20, the initial compliance time is the first flight of the next day after accomplishing the revision required by paragraph (i) of this AD, or within 90 days after the effective date of this AD, whichever occurs later.

(j) New No Alternative Actions, Intervals, or CDCCLs

After the existing maintenance or inspection program has been revised as required by paragraph (i) of this AD, no alternative actions (e.g., inspections), intervals, or CDCCLs may be used unless the actions, intervals, and CDCCLs are approved as an alternative method of compliance (AMOC) in accordance with the procedures specified in paragraph (k)(1) of this AD.

(k) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (l) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or the UK CAA; or BAE Systems (Operations) Limited's UK CAA Design Organization Approval (DOA). If approved by the DOA, the approval must include the DOA-authorized signature.

(l) Additional Information

For more information about this AD, contact Todd Thompson, Aviation Safety Engineer, FAA, 1600 Stewart Avenue, Suite 410, Westbury, NY 11590; telephone 206-231-3228; email todd.thompson@faa.gov.

(m) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on [DATE 35 DAYS AFTER PUBLICATION OF THE FINAL RULE].

(i) Subject 05-10-10, “Airworthiness Limitations,” of Chapter 05, “Airworthiness Limitations,” of BAE Systems (Operations) Limited J41 Aircraft Maintenance Manual (AMM), Revision 46, dated February 20, 2024.

(ii) [Reserved]

(4) The following material was approved for IBR on March 14, 2023 (88 FR 7851, February 7, 2023).

(i) Chapter 05, “Airworthiness Limitations,” of BAE Systems (Operations) Limited J41 AMM, Effectivity Group 403, Revision 44, dated June 15, 2021.

Note 1 to paragraph (m)(4)(i): This note applies to paragraphs (m)(4)(i) and (ii) of this AD. Page 1 of the “Publications Transmittal” is the only page that shows the revision level of this document.

Note 2 to paragraph (m)(4)(i): This note applies to paragraphs (m)(4)(i) and (ii) of this AD. “Effectivity Group” is not specifically stated on the document. However, “403” and “408,” which are stated on the pages of the applicable documents (except for the title pages), refer to the effective groups of airplanes specified within the fleet code listings.

(ii) Chapter 05, “Airworthiness Limitations,” of BAE Systems (Operations) Limited J41 AMM, Effectivity Group 408, Revision 44, dated June 15, 2021.

(5) For material identified in this AD, contact BAE Systems (Operations) Limited, Customer Information Department, Prestwick International Airport, Ayrshire, KA9 2RW, Scotland, United Kingdom; telephone +44 1292 675207; fax +44 1292 675704; email RApublications@baesystems.com; website baesystems.com/en/our-company/our-businesses/regional-aircraft/about-us.

(6) You may view this material at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations or email fr.inspection@nara.gov.

Appendix A to BAE Systems (Operations) Limited: Docket No. FAA-2025-0339; Project Identifier MCAI-2024-00450-T—Subject 05-10-20, “Certification Maintenance Requirements”

BILLING CODE 4910-13-P

Appendix B to BAE Systems (Operations) Limited: Docket No. FAA-2025-0339; Project Identifier MCAI-2024-00450-T—Subject 05-10-30, “Critical Design Configuration Control Limitations (CDCCL)—Fuel System”

Issued on March 19, 2025.
Steven W. Thompson,
Acting Deputy Director, Compliance & Airworthiness Division, Aircraft Certification Service.

[FR Doc. 2025-04983 Filed 3-24-25; 8:45 am]

BILLING CODE 4910-13-C